DEPARTMENT OF JUSTICE

Office of Justice Programs

Agency Information Collection Activities: Proposed Collection; Comments Requested; Victims of Crime Act, Victim Compensation Grant Program, State Performance Report

ACTION: Notice of information collection under review; revision of a currently approved collection.

The Department of Justice, Office of Justice Programs, Office for Victims of Crime, has submitted the following information collection request for review and clearance in accordance with the Paperwork Reduction Act of 1995. This proposed information collection is published to obtain comments from the public and affected agencies. Comments are encouraged and will be accepted for “sixty days” until May 21, 2001.

Written comments and suggestions from the public and affected agencies concerning the proposed collection of information should address one or more of the following four points:

(1) Evaluate whether the proposed collection of information is necessary for the proper performance of the function of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

If you have additional comments, suggestions, or need a copy of the proposed information collection instrument with instructions, or additional information, please contact Toni Thomas, 202-616-3579, Office for Victims of Crime, Office of Justice Programs, U.S. Department of Justice, 810 Seventh Street, NW., Washington, DC 20531.

Overview of This Information

(1) Type of information collection: Revision of a currently approved collection.

(2) The title of the form/collection: Victims of Crime Act, Victim Compensation Grant Program, State Performance Report.

(3) The agency form number, if any, and the applicable component of the Department sponsoring the collection: The form number is OJP Admin Form 7390/6. Office for Victims of Crime, Office of Justice Programs, U.S. Department of Justice.

(4) Affected public who will be asked or required to respond, as well as a brief abstract: Primary: State government. Other: None.

The Victims of Crime Act as amended and the Program Guidelines require each state crime victim compensation program to submit an annual Performance Report. Information received from each program is aggregated to form the basis of the OVC Director's report to the President and Congress on the effectiveness of the activities supported with Victims of Crime Act Funds.

(5) An estimate of the total number of respondents and the amount of time estimated for an average respondent to respond/reply: It is estimated that 53 respondents will complete the annual report in 2 hours.

(6) An estimate of the total public burden (in hours) associated with the collection: The estimated total burden hours associated with this collection is 106 annual burden hours.

If additional information is required contact: Mrs. Brenda E. Dyer, Deputy Clearance Officer, United States Department of Justice, Information Management and Security Staff, Justice Management Division, National Place, Suite 1220, 1331 Pennsylvania Avenue, NW., Washington, DC 20530.

Dated: March 15, 2001.
Brenda E. Dyer,
Department Deputy Clearance Officer, United States Department of Justice.

[FR Doc. 01-6990 Filed 3-20-01; 8:45 am]

BILLING CODE 4410-18-M